DEPARTMENT OF LABOR

Employment and Training Administration

[TA-W-65,462]

Sekisui Voltek, LLC, Coldwater, MI; Notice of Termination of Investigation

Pursuant to Section 221 of the Trade Act of 1974, as amended, an investigation was initiated on March 3, 2009 in response to a worker petition filed on behalf of the workers of Sekisui Voltek, LLC, Coldwater, Michigan.

The petitioners requested that the petition be withdrawn. Consequently, the investigation has been terminated.

Signed at Washington, DC, this 27th day of March 2009.
Richard Church,
Certifying Officer, Division of Trade Adjustment Assistance.

[FR Doc. E9-8933 Filed 4-17-09; 8:45 am]

BILLING CODE 4510-FN-P